DEPARTMENT OF TRANSPORTATION

Pipeline and Hazardous Materials Safety Administration

[Docket No. PHMSA-2011-0328; Notice No. 11-15]

Safety Advisory: Unauthorized Marking of Compressed Gas Cylinders

AGENCY: Pipeline and Hazardous Materials Safety Administration (PHMSA), DOT.

ACTION: Safety Advisory Notice.

SUMMARY: This is to notify the public that PHMSA has confirmed that Spears Fire & Safety, 287 Jackson Plaza, Ann Arbor, MI improperly requalified and marked high pressure compressed gas cylinders. During a recent investigation, PHMSA determined that between November 2008 and October 2011, Spears Fire & Safety requalified and marked with a Requalifier Identification Number (RIN) “B037” approximately 7,740 DOT specification cylinders after its authority to requalifiy high pressure cylinders expired on October 31, 2008. Additionally the investigation revealed that during this period, Spears Fire & Safety (1) failed to condemn cylinders with a permanent expansion greater than 10% of total expansion, (2) on multiple occasions did not maintain the minimum test pressure for the required time and (3) improperly repeated pressure tests on cylinders required to be condemned. Cylinders that have not been properly requalified and marked in accordance with the HMR may not be filled with compressed gas or other hazardous material.

FOR FURTHER INFORMATION CONTACT: Spears Fire & Safety, Mr. Robert Pate, Manager, 287 Jackson Plaza, Ann Arbor, MI, Telephone (734) 633-4133.

SUPPLEMENTARY INFORMATION: PHMSA has recently confirmed that Spears Fire & Safety continued to requalify and mark high pressure cylinders after their authority to requalify cylinders had expired. Spears Fire & Safety's authority to requalify cylinders expired on October 31, 2008 and failed to seek renewal of its authority from the Associate Administrator. However, Spears Fire & Safety continued to requalify cylinders for a period of time up to and including October 14, 2011. The investigation also revealed that Spears Fire & Safety (1) failed to condemn cylinders with a permanent expansion greater than 10% of total expansion (2) on multiple occasions, did not maintain test pressure for the required time period, and (3) performed multiple repeat pressure tests on a cylinder with a permanent expansion greater than 10% of total expansion. Because Spears Fire & Safety improperly pressure tested and marked high pressure cylinders that were required to be condemned, PHMSA questions the condition of all of the cylinders requalified, marked and returned to service by Spears Fire & Safety between November 2008 and October 2011 (approximately 7,740 cylinders). The cylinders in question were marked with Spears Fire & Safety's RIN “B037”. The markings appear in the following pattern:

B0
M Y
73

Where B037 is Spears Fire & Safety's RIN, M is the month of the retest (e.g. 10) and Y is the year of the retest (e.g. 11). Anyone who identifies a cylinder marked with the RIN “B037” and a test date after October 2008, are advised to remove these cylinders from service and contact Spears Fire & Safety, Ann Arbor, MI for further instructions.

Issued in Washington, DC, on December 29, 2011.
Magdy El-Sibaie,
Associate Administrator for Hazardous Materials Safety.

[FR Doc. 2012-394 Filed 1-11-12; 8:45 am]

BILLING CODE 4910-60-P